DEPARTMENT OF VETERANS AFFAIRS

Privacy Act of 1974; System of Records

AGENCY: Department of Veterans Affairs.

ACTION: Notice to delete system of records.

SUMMARY: The Department of Veterans Affairs (VA) is deleting a system of records entitled “Veterans and Dependents Inactive Award Account Records—VA” (39VA047). The system contained information on payments made to or on behalf of an individual veteran and/or dependents. This system of records is being deleted since it is no longer being used by the Department because records pertaining to this system have been incorporated into “Compensation, Pension, Education, and Rehabilitation Records—VA” (58VA21/22).

A “Report of Intention to Publish a Federal Notice of Deletion of a System of Records” and a copy of the deletion of system notice have been provided to the appropriate Congressional committees and to the Office of Management and Budget (OMB), as required by 5 U.S.C. 552a(r) and guidelines issued by OMB, 65 FR 77677 (Dec. 12, 2000).

DATES: Effective Date: March 31, 2009.

FOR FURTHER INFORMATION CONTACT: Peter Mulhern, Office of Financial Policy (047G), Department of Veterans Affairs, 810 Vermont Avenue, NW., Washington, DC 20420, (202) 461-6487 (this is not a toll-free number).

Approved: March 3, 2009.
John R. Gingrich,
Chief of Staff, Department of Veterans Affairs.

[FR Doc. E9-7162 Filed 3-30-09; 8:45 am]

BILLING CODE 8320-01-P